DEPARTMENT OF THE INTERIOR

Fish and Wildlife Service

Notice of Availability of a Technical Agency Draft Recovery Plan for the Puerto Rican Parrot for Review and Comment

AGENCY: Fish and Wildlife Service, Interior.

ACTION: Notice of document availability and public comment period.

SUMMARY: We, the Fish and Wildlife Service, announce the availability of the revised technical agency draft revised recovery plan for the Puerto Rican Parrot (Amazona vittata vittata). The Puerto Rican parrot, largely green with a red forehead and blue flight feathers, is one of nine extant Amazona parrots occurring in the West Indies. Measuring about 29 centimeters (11 inches) in length and weighing about 270 grams (10 ounces), this species is one of the smallest in its genus, although it is similar in size to other Amazona in the Greater Antilles. The current revision of the recovery plan incorporates new information, describes actions considered necessary for the conservation of this species, establishes criteria (important milestones) for recognizing the recovery levels for downlisting from endangered to threatened, and estimates the time and cost for implementing the recovery measures needed. Partnerships are a key element of this revised recovery plan. The Service solicits review and comment on this draft revised recovery plan.

DATES: In order to be considered, we must receive comments on the technical agency draft recovery plan on or before December 4, 2006.

ADDRESSES: If you wish to review this technical agency revised draft recovery plan, you may obtain a copy by contacting the Río Grande Field Station, U.S. Fish and Wildlife Service, P.O. Box 1600, Río Grande, Puerto Rico 00745 (telephone (787) 887-8769 Ext. 222) or by visiting our Web site at http://endangered.fws.gov/recovery/index.html#plans. If you wish to comment, you may submit your comments by either of two methods:

1. You may submit written comments and materials to the Field Supervisor, at the above address.

2. You may hand-deliver written comments to our Río Grande Field Station, at Calle García de la Noceda No. 38, Río Grande, Puerto Rico, or fax your comments to (787) 887-7512.

Comments and materials received are available for public inspection on request, by appointment, during normal business hours at the above address.

FOR FURTHER INFORMATION CONTACT: Fernando Núñez-García at the above address (Telephone 787/887-8769, ext. 223).

SUPPLEMENTARY INFORMATION:

Background

Once abundant and widespread on the Puerto Rican archipelago, the Puerto Rican parrot is presently considered one of the 10 most endangered birds in the world. Since 1973, the number of wild parrots has never surpassed 47 birds, and currently stands at a minimum of 28 individuals mostly confined within the Caribbean National Forest boundaries in the Luquillo Mountains. The most abrupt change in population numbers since 1973 was caused by hurricane Hugo in 1989. It reduced the wild population size from 47 to about 23 individuals. Increases in the number of wild parrots have not been followed by proportional increases in the number of breeding individuals, which has never exceeded 12.

The Puerto Rican parrot is a fruit-eating cavity nester seldom seen far from forests. The decline of the parrot and its restricted distribution are due to many factors, mostly the widespread habitat loss (e.g., deforestation.) The extant parrot population may have retreated to the Luquillo Mountains because preferred lowland habitat was destroyed. Due to its nesting requirements, it depends on mature forests with large cavity-forming trees. Many stands of cavity-forming trees are old enough to meet nesting requirements in the Caribbean National Forest. Parrots concentrate their use of habitat within the largest remaining area of essentially unmodified forest. However, some observations suggest that the parrots are using private areas bordering the southern and northern parts of the Caribbean National Forest.

Despite the present low numbers and limited distribution, many of the historical threats, such as nest competition and predation of eggs and chicks by pearly-eyed thrashers (Margarops fuscatus), predation of fledglings and adults by red-tailed hawks (Buteo jamaicensis), predation by rats (Rattus rattus and R. norvegicus), parasitism by warble flies (Philornis pici), and the impact of hurricanes and competition for cavities with European and Africanized honeybees (Apis mellifera), have been controlled through management strategies.

Restoring an endangered or threatened animal or plant to the point where it is again a secu re, self-sustaining member of its ecosystem is a primary goal of the endangered species program. To help guide the recovery effort, we are preparing recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development. We will consider all information presented during a public comment period prior to approval of each new or revised recovery plan. The Service and other Federal agencies will take these comments into account in the course of implementing approved recovery plans.

The objective of this technical agency draft plan is to provide a framework for the recovery of the Puerto Rican parrot, so that protection under the Act is no longer necessary. As recovery criteria are met, the status of the species will be reviewed and these criteria will be considered for removal of the Puerto Rican parrot from the Federal List of Endangered and Threatened Wildlife and Plants (50 CFR part 17).

Recovery Criteria for Downlisting

All of the following must occur:

1. A wild population in the Luquillo Mountains exists, with a population size and vital parameters consistent with a trajectory towards maintenance. This population will be characterized by breeding productivity rates of greater than or equal to 1.56 chicks per nesting attempt (wild), and first year survival rates of fledglings and released captive-reared birds of greater than 60 percent;

2. A second wild population in the northwestern karst region exists, with population sizes and vital parameters consistent with a trajectory towards maintenance. This population will be characterized by a breeding productivity of greater than or equal to 1.56 chicks per nesting attempt (wild), and first year survival rates of fledglings and released captive-reared birds of greater than 60 percent.

3. The reintroduction/creation of a third population or sub-population in the Luquillo mountains, or suitable forested area in the island.

4. Nesting and foraging habitats are protected to support growing populations.

Recovery Criteria for Delisting

All of the following must occur:

1. At least three interacting populations exist in the wild and population growth is sustained for 10 years after downlisting has occurred. This will allow for monitoring of recruitment events and other population attributes in a species that has been characterized by highly variable reproductive and survival rates (Snyder et al. 1987; Muiznieks 2003). The populations should produce greater than or equal to 1.56 chicks per nesting attempt (average rate for the 1990s) and their survival rates should not drop below 90 percent for adults and 50 percent for juveniles. These rates assume that sub-adult survival rates are approximately 85 percent, age of first breeding is 4 years, and at least 60 percent of the adults engage in reproduction each year.

2. Long-term protection of the habitat occupied by each wild population is achieved.

3. Collection of the species for commercial, scientific, and/or educational purposes is controlled by Commonwealth laws and other regulatory mechanisms.

4. The effects of disease and predation factors are controlled to allow for population viability.

Public Comments Solicited

We solicit written comments on the recovery plan described. We will consider all comments received by the date specified above prior to final approval of the revised recovery plan.

Our practice is to make all comments, including names and home addresses of respondents, available for public review during regular business hours. Individual respondents may request that we withhold their home addresses from the record, which we will honor to the extent allowable by law. In some circumstances, we would withhold also from the record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Authority

The authority for this action is section 4(f) of the Endangered Species Act, 16 U.S.C. 1533(f).

Dated: September 21, 2006.
Cynthia Dohner,
Acting Regional Director.

[FR Doc. E6-16320 Filed 10-2-06; 8:45 am]

BILLING CODE 4310-55-P